DEPARTMENT OF HEALTH AND HUMAN SERVICES

National Institutes of Health

Submission for OMB Review; Comment Request: Process Evaluation of the Early Independence Award (EIA) Program

SUMMARY: Under the provisions of Section 3507(a)(1)(D) of the Paperwork Reduction Act of 1995, the Office of Strategic Coordination (OSC), Division of Program Coordination, Planning, and Strategic Initiatives (DPCPSI), the National Institutes of Health (NIH), has submitted to the Office of Management and Budget (OMB) a request to review and approve the information collection listed below. This proposed information collection was previously published in the Federal Register on June 13, 2012 (Vol. 77, No 114, Page 35408), and allowed 60 days for public comment. No public comments were received. The purpose of this notice is to allow an additional 30 days for public comment. The NIH may not conduct or sponsor, and the respondent is not required to respond to, an information collection that has been extended, revised, or implemented on or after October 1, 1995, unless it displays a currently valid OMB control number.

Proposed Collection: Title: Process Evaluation of the Early Independence Award (EIA) Program. Type of Information Collection Request: NEW. Need and Use of Information Collection: This study will assess the EIA program operations. The primary objectives of the study are to: (1) Assess if the Requests for Applications (RFAs) are meeting the needs of applicants; (2) document the selection process; (3) document EIA program operations; (4) assess the progress being made by the Early Independence Principal Investigators; and (5) assess the support provided by the Host Institutions to the Early Independence Principal Investigators. The findings will provide valuable information concerning: (1) Aspects of the program that could be revised or improved; (2) progress made by the Early Independence Principal Investigators; and (3) implementation of the program at Host Institutions. Frequency of Response: On occasion. Affected Public: None. Type of Respondents: Applicants, reviewers, and awardees. The annual reporting burden is as follows: Estimated Number of Respondents: 390; Estimated Number of Responses per Respondent: 1; Average Burden Hours per Response: .4; and Estimated Total Annual Burden Hours Requested: 158. The annualized cost to respondents is estimated at $9,774. There are no Capital Costs to report.

A.12.1—Annualized Estimate of Hour Burden
Type of respondents | Number of respondents | Frequency of response | Average time per response (in hrs.) | Annual hour burden
Editorial Board Reviewers (paper survey) | 15 | 1 | 15/60 | 4
Applicants—Junior Scientists (online survey) | 150 | 1 | 15/60 | 38
Applicants—Officials of Host Institutions (online survey) | 150 | 1 | 15/60 | 38
Awardees—Early Independence Principal Investigator (paper survey—beginning of 1st year of award) | 12 | 1 | 30/60 | 6
Awardees—Early Independence Principal Investigator (phone interview—end of 1st year of award) | 12 | 1 | 1 | 12
Awardees—Early Independence Principal Investigator (online survey—end of 2nd and 3rd year of award) | 24 | 1 | 1 | 24
Awardees—Point of Contact at Host Institution (phone interview—end of 1st year of award) | 12 | 1 | 1 | 12
Awardees—Point of Contact at Host Institution (online survey—end of 2nd and 3rd year of award) | 24 | 1 | 1 | 24
Total |  |  |  | 158

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact Dr. Ravi Basavappa, OSC, DPCPSI, Office of the Director, NIH, 1 Center Drive, MSC 0189, Building 1, Room 203, Bethesda, MD 20892-0189; telephone 301-594-8190; fax 301-435-7268; or email your request, including your address, to earlyindependence@mail.nih.gov.

Comments Due Date: Comments regarding this information collection are best assured of having their full effect if received within 30 days of the date of this publication.

Dated: September 7, 2012.
Lawrence A. Tabak,
Deputy Director, National Institutes of Health.

[FR Doc. 2012-22741 Filed 9-13-12; 8:45 am]

BILLING CODE 4140-01-P